DEPARTMENT OF ENERGY

Federal Energy Regulatory Commission

Combined Notice of Filings #1

Take notice that the Commission received the following electric rate filings:

Docket Numbers: ER14-2875-003.

Applicants: UNS Electric, Inc.

Description: Compliance filing: Amended Formula Rate Protocols Compliance Filing to be effective 11/14/2014.

Filed Date: 2/4/16.

Accession Number: 20160204-5072.

Comments Due: 5 p.m. ET 2/25/16.

Docket Numbers: ER15-2331-001.

Applicants: PJM Interconnection, L.L.C., Baltimore Gas and Electric Company.

Description: Compliance filing: BGE submits revisions to Attach. H-2A re: Sept 30 Order citation & formatting to be effective 10/1/2015.

Filed Date: 2/3/16.

Accession Number: 20160203-5146.

Comments Due: 5 p.m. ET 2/24/16.

Docket Numbers: ER16-56-001.

Applicants: Midcontinent Independent System Operator, Inc.

Description: Compliance filing: 2016-02-03_Hurdle Rate Removal Compliance Filing to be effective 2/1/2016.

Filed Date: 2/3/16.

Accession Number: 20160203-5197.

Comments Due: 5 p.m. ET 2/24/16.

Docket Numbers: ER16-270-002.

Applicants: Midcontinent Independent System Operator, Inc.

Description: Tariff Amendment: 2016-02-03_SA 2863 2nd Amendment to ATC Construction Management Agreement to be effective 10/30/2015.

Filed Date: 2/3/16.

Accession Number: 20160203-5201.

Comments Due: 5 p.m. ET 2/24/16.

Docket Numbers: ER16-883-000.

Applicants: Bishop Hill Energy LLC.

Description: § 205(d) Rate Filing: Amended and Restated Assignment, Co-Tenancy, and Shared Facilities Agreement to be effective 4/4/2016.

Filed Date: 2/3/16.

Accession Number: 20160203-5221.

Comments Due: 5 p.m. ET 2/24/16.

Docket Numbers: ER16-884-000.

Applicants: Roosevelt Wind Project, LLC, Milo Wind Project, LLC.

Description: § 205(d) Rate Filing: Roosevelt-Milo Cotenancy and Common Facilities Agreement & Notice Waiver Request to be effective 12/18/2015.

Filed Date: 2/3/16.

Accession Number: 20160203-5235.

Comments Due: 5 p.m. ET 2/24/16.

Docket Numbers: ER16-885-000.

Applicants: Entergy Louisiana, LLC, Entergy New Orleans, Inc., Entergy Arkansas, Inc.

Description: § 205(d) Rate Filing: Union Power Station Joint Operating Agreement to be effective 12/31/9998.

Filed Date: 2/3/16.

Accession Number: 20160203-5239.

Comments Due: 5 p.m. ET 2/24/16.

Docket Numbers: ER16-886-000.

Applicants: Midcontinent Independent System Operator, Inc.

Description: § 205(d) Rate Filing: 2016-02-03_SA 2677 GRE-NSP 1st Rev GIA (J278) to be effective 2/4/2016.

Filed Date: 2/3/16.

Accession Number: 20160203-5241.

Comments Due: 5 p.m. ET 2/24/16.

Docket Numbers: ER16-887-000.

Applicants: Milo Wind Project, LLC.

Description: § 205(d) Rate Filing: Milo Certificate of Concurrence to Roosevelt-Milo CFA and Notice Waiver Request to be effective 12/18/2015.

Filed Date: 2/3/16.

Accession Number: 20160203-5245.

Comments Due: 5 p.m. ET 2/24/16.

Docket Numbers: ER16-888-000.

Applicants: Midcontinent Independent System Operator, Inc., Montana-Dakota Utilities Co., Division of MDU Resources Inc.

Description: § 205(d) Rate Filing: 2016-02-04_MDU Attachment O—30.9 Filing to be effective 4/4/2016.

Filed Date: 2/4/16.

Accession Number: 20160204-5040.

Comments Due: 5 p.m. ET 2/25/16.

Docket Numbers: ER16-889-000.

Applicants: Midcontinent Independent System Operator, Inc.

Description: § 205(d) Rate Filing: 2016-02-04_SA 2718 Termination of Duke Energy Indiana-Duke Energy J333/J334 GIA to be effective 4/16/2016.

Filed Date: 2/4/16.

Accession Number: 20160204-5110.

Comments Due: 5 p.m. ET 2/25/16.

Docket Numbers: ER16-890-000.

Applicants: Summer Solar LLC.

Description: Baseline eTariff Filing: Summer Solar LLC MBR Tariff to be effective 3/4/2016.

Filed Date: 2/4/16.

Accession Number: 20160204-5120.

Comments Due: 5 p.m. ET 2/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2016.
Nathaniel J. Davis, Sr.,
Deputy Secretary.

[FR Doc. 2016-02632 Filed 2-9-16; 8:45 am]

BILLING CODE 6717-01-P